DEPARTMENT OF HEALTH AND HUMAN SERVICES

Administration for Children and Families

Submission for OMB Review; Comment Request

Title: Request for State Data Needed to Determine the Amount of a Tribal Family Assistance Grant.

OMB No.: 0970-0173.

Description: 42 U.S.C. 612 (Section 412 of the Social Security Act (the Act) gives Federally recognized Indian Tribes the opportunity to apply to operate a Tribal Temporary Assistance for Needy Families (TANF) program. The act specifies that the Secretary shall use State-submitted data to make each determination of the amount of the grant to the Tribe. This form (letter) is used to request those data from the States.

Respondents: States that have Indian Tribes applying to operate a TANF program.

Annual Burden Estimates
Instrument | Number of respondents | Number of responses per respondent | Average burden hours per response | Total burden hours
Request for State Data Needed to Determine the Amount of a Tribal Family Assistance Grant | 15 | 1 | 42 | 630

Estimated Total Annual Burden Hours: 630.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hss.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Attn: Desk Officer for ACF, 725 17th Street, NW., Washington, DC 20503, E-mail address: Katherine_T._Astrich@omb.eop.gov.

Dated: September 15, 2004.
Robert Sargis,
Reports Clearance Officer.

[FR Doc. 04-21089 Filed 9-17-04; 8:45 am]

BILLING CODE 4184-01-M